DEPARTMENT OF TRANSPORTATION

Pipeline and Hazardous Materials Safety Administration

Office of Hazardous Materials Safety; Notice of Delays in Processing of Special Permit Applications

AGENCY: Pipeline and Hazardous Materials Safety Administration, DOT.

ACTION: List of applications delayed more than 180 days.

SUMMARY: In accordance with the requirements of 49 U.S.C. 5117(c), PHMSA is publishing the following list of special permit applications that have been in process for 180 days or more. The reasons(s) for delay and the expected completion date for action on each application is provided in association with each identified application.

FOR FURTHER INFORMATION CONTACT: Ann Mazzullo, Office of Hazardous Materials Special Permits and Approvals, Pipeline and Hazardous Materials Safety Administration, U.S. Department of Transportation, 400 Seventh Street, SW., Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application.

M—Modification request.

X—Renewal.

PM—Party to applicant with modification request.

Issued in Washington, DC, on July 10, 2006.
R. Ryan Posten,
Chief, Special Permits Program, Office of Hazardous Materials Safety, Special Permits & Approvals.

New Special Permit Applications
Application No. | Applicant | Reason for delay | Estimated date of completion
13563-N | Applied Companies, Valencia, CA | 1 | 07-31-2006
14184-N | Global Refrigerants, Inc., Denver, CO | 4 | 07-31-2006
14229-N | Senex Explosives, Inc., Cuddy, PA | 4 | 07-31-2006
14239-N | Marlin Gas Transport, Inc., Odessa, FL | 1 | 07-31-2006
14257-N | Origin Energy American Samoa, Inc., Pago Pago, AS | 4 | 07-31-2006
14266-N | NCF Industries, Inc., Santa Maria, CA | 3 | 08-31-2006
14277-N | Ascus Technologies, Ltd., Cleveland, OH | 3, 4 | 08-31-2006
14285-N | INO Therapeutics LLC, Port Allen, LA | 4 | 08-31-2006
14289-N | City Machine & Welding, Inc., Amarillo, TX | 4 | 08-31-2006
14301-N | Triple S Gas Tanks (PTY) Ltd dba, Gascon, Elsieriver, South Africa | 4 | 08-31-2006
14298-N | Air Products and Chemicals, Inc., Allentown, PA | 4 | 08-31-2006
14283-N | U.S. Department of Energy (DOE), Washington, DC | 1 | 07-31-2006
14237-N | Advanced Technology Materials, Inc., (ATMI), Danbury, CT | 1 | 08-31-2006
14232-N | Luxfer Gas Cylinders—Composite, Cyclinder Division, Riverside, CA | 4 | 07-31-2006

Modification to Special Permit
Application No. | Applicant | Reason for delay | Estimated date of completion
11903-M | Comptank Corporation, Bothwell, ON | 4 | 07-31-2006
13583-M | Structural Composites Industries, Pomona, CA | 3, 4 | 07-31-2006
11691-M | Sensient Flavors, Inc., Indianapolis, IN | 4 | 07-31-2006
12677-M | Austin Powder Illinois Company, Cleveland, OH | 1 | 08-31-2006

[FR Doc. 06-6196 Filed 7-12-06; 8:45 am]

BILLING CODE 4910-60-M